FEDERAL COMMUNICATIONS COMMISSION

Privacy Act System of Records

AGENCY: Federal Communications Commission (FCC or Commission).

ACTION: Notice; one altered Privacy Act system of records; revision of four routine uses; and addition of one new routine use.

SUMMARY: Pursuant to subsection (e)(4) of the Privacy Act of 1974, as amended (Privacy Act), 5 U.S.C. 552a, the FCC proposes to change the name of and alter one system of records, FCC/CGB-1, “Informal Complaints and Inquiries” (formerly FCC/CIB-1, “Informal Complaints and Inquiries”). The altered system of records incorporates a change to the system's name. The FCC also will alter the categories of individuals; the categories of records; the purposes for which the information is maintained; four routine uses (and add a new routine use); the storage, retrievability, access, safeguard, and retention and disposal procedures; and make other edits and revisions as necessary to comply with the requirements of the Privacy Act.

DATES: In accordance with subsections (e)(4) and (e)(11) of the Privacy Act, any interested person may submit written comments concerning the alteration of this system of records on or before January 14, 2010. The Office of Management and Budget (OMB), which has oversight responsibility under the Privacy Act to review the system of records, may submit comments on or before January 25, 2010. The proposed system of records will become effective on January 25, 2010 unless the FCC receives comments that require a contrary determination. The Commission will publish a document in the Federal Register notifying the public if any changes are necessary. As required by 5 U.S.C. 552a(r) of the Privacy Act, the FCC is submitting reports on this proposed altered system to OMB and to both Houses of Congress.

ADDRESSES: Address comments to Leslie F. Smith, Privacy Analyst, Performance Evaluation and Records Management, Room 1-C216, Federal Communications Commission, 445 12th Street, SW., Washington, DC 20554, or via the Internet at Leslie.Smith@fcc.gov.

FOR FURTHER INFORMATION CONTACT: Contact Leslie F. Smith, Performance Evaluation and Records Management, Room 1-C216, Federal Communications Commission, 445 12th Street, SW., Washington, DC 20554, (202) 418-0217 or via the Internet at Leslie.Smith@fcc.gov.

SUPPLEMENTARY INFORMATION: As required by the Privacy Act of 1974, as amended, 5 U.S.C. 552a(e)(4) and (e)(11), this document sets forth notice of the proposed alteration of one system of records maintained by the FCC, revision of four routine uses, and addition of one new routine use. The FCC previously gave complete notice of the system of records (FCC/CIB-1, “Informal Complaints and Inquiries”) covered under this Notice by publication in the Federal Register on October 11, 2001 (66 FR 51955). This notice is a summary of the more detailed information about the proposed altered system of records, which may be viewed at the location given above in the ADDRESSES section. The purposes for altering FCC/CGB-1, “Informal Complaints and Inquiries,” are to change the name of the system; to revise the categories of individuals; to revise the categories of records; to revise the purposes for which the information is maintained; to revise four routine uses and add a new routine use; to revise the storage, retrievability, access, safeguard, and retention and disposal procedures; and to make other edits and revisions as necessary to comply with the requirements of the Privacy Act.

The FCC will achieve these purposes by altering this system of records with these changes:

Revision of the language explaining the Security Classification;

Revision of the language regarding the categories of individuals in the system, for clarity and to add that electronic submissions include e-mail, Internet, and fax, etc.;

Revision of the language regarding the categories of records in the system, for clarity and to add that the categories of records may include submissions that individuals make using fax, voice (telephone calls), Internet e-mails, etc., and via the FCC Web portal at http://www.fcc.gov;

Revision of the language regarding the purposes for which the information is maintained, to clarify that the redacted information includes that such as the complainant's name, address, telephone number, fax number, and/or e-mail address;

Revision of Routine Use (1) to expand the list of entities, against whom informal complaints have been filed, to whom the Commission may forward such complaints. Those entities now include telecommunications providers, broadcasters, multi-channel video program distributors, voice-over-Internet-protocol providers, and/or wireless providers. Routine Use (1) also is revised to add Sections 4(i) and 303(r) of the Communications Act of 1934, as amended (Communications Act), as authority:

Routine Use (1) now allows disclosure when a record in this system involves an informal complaint filed against telecommunications providers, broadcasters, multi-channel video program distributors, voice-over-Internet-protocol providers, and/or wireless providers. The complaint may be forwarded to the subject company for a response, pursuant to Sections 4(i), 208, and 303(r) of the Communications Act.

Revision of Routine Use (2) to expand the list of entities, against whom informal complaints have been filed and concerning whom the Commission has issued an order or other document, to include telecommunications providers, broadcasters, multi-channel video program distributors, voice-over-Internet-protocol providers, and/or wireless providers:

Routine Use (2) allows disclosure when an order or other Commission-issued document that includes consideration of informal complaints filed against telecommunications providers, broadcasters, multi-channel video program distributors, voice-over-Internet-protocol providers, and/or wireless providers is entered by the FCC to implement or enforce the Communications Act, pertinent rule, regulation, or order of the FCC; in such a case, the complainant's name may be made public in that order or document. Where a complainant in filing his or her complaint explicitly requests that the bureau withhold his or her name from public disclosure, such a request will be granted and the complainant's name will not be disclosed in the Commission-issued order or document.

Revision of Routine Use (3) to add Tribal to the list of appropriate agencies to whom a violation or potential violation of a statute, regulation, rule, or order may be referred:

Routine Use (3) allows disclosure where there is an indication of a violation or potential violation of a statute, regulation, rule, or order; in such a case, records from this system may be referred to the appropriate Federal, State, Tribal, or local agency responsible for investigating or prosecuting a violation or for implementing or enforcing the statute, rule, regulation, or order.

Revision of Routine Use (7) to replace the General Services Administration with the Government Accountability Office (GAO) as one of the agencies to whom disclosure may be made for the purpose of records management inspections:

Routine Use (7) allows disclosure to the GAO and the National Archives and Records Administration (NARA) for the purpose of records management inspections conducted under authority of 44 U.S.C. 2904 and 2906, and provides that such disclosure shall not be used to make a determination about individuals.

Addition of a new Routine Use (8) to comply with OMB Memorandum M-07-16 (May 22, 2007) governing “breach notifications”:

Routine Use (8) allows disclosure to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.

Revision of the response pertaining to the FCC's disclosure of information in the system to consumer reporting agenices to note that there is no disclosure.

Revision of the policies and practices for storing, retrieving, accessing, retaining, and disposing of records in the system to make them consistent with the Consumer and Governmental Affairs Bureau's (CGB) current policies and practices and to comport with the requirements of the NARA records control schedule N1-173-07-1, which is approved for this agency;

Revision of, updating, and otherwise changing the language in the system of records notice, as necessary, to make it comply with the requirements for how CGB handles the informal complaints and inquiries that it receives from individuals, groups, and other entities on matters arising under the Communications Act and the Rehabilitation Act; and

Revision or modification of other data elements in FCC/CGB-1, as required to make editorial changes to, update, simplify, or clarify, as necessary, this system of records notice.

CGB will use the records in FCC/CGB-1 to handle and process informal complaints and inquiries received from individuals, groups, and other entities. Records in this system will be available for public inspection after redaction of information that could identify the complainant or correspondent, such as the complainant's name, address, telephone number, fax number, and/or e-mail address.

This notice meets the requirement of documenting the changes to the systems of records that the FCC maintains, and provides the public, Congress, and OMB an opportunity to comment.

FCC/CGB-1

SYSTEM NAME:

Informal Complaints and Inquiries.

SECURITY CLASSIFICATION:

The FCC's Security Operations Center (SOC) has not assigned a security classification to this system of records.

SYSTEM LOCATION:

Consumer and Governmental Affairs Bureau (CGB), Federal Communications Commission (FCC), 445 12th Street, SW., Washington, DC 20554 and 1270 Fairfield Road, Gettysburg, PA 17325.

CATEGORIES OF INDIVIDUALS COVERED BY THE SYSTEM:

The categories of individuals in this system include individuals, groups, and other entities who make or have made informal complaints or inquiries in any format, including, but not limited to, paper, telephone, and electronic submissions, including e-mail, Internet, and fax, etc., on matters arising under the Communications Act of 1934, as amended, and the Rehabilitation Act.

CATEGORIES OF RECORDS IN THE SYSTEM:

The categories of records in this system include both computerized information contained in a database and paper copies of inquiries, informal complaints, and related supporting information made by individuals, groups, or other entities; and company replies to complaints, inquiries, and Commission letters regarding such complaints and inquiries.

The categories of records may also include submissions that individuals make using fax, voice (telephone calls), Internet e-mail, etc., and via the FCC Web portal at: http://www.fcc.gov.

AUTHORITY FOR MAINTENANCE OF THE SYSTEM:

Sections 151, 154, 206, 208, 225, 226, 227, 228, 255, 258, 301, 303, 309(e), 312, 362, 364, 386, 507 of the Communications Act of 1934, as amended, 47 U.S.C. 151, 154, 206, 208, 225, 226, 227, 228, 255, 258, 301, 303, 309(e), 312, 362, 364, 386, 507; Sections 504 and 508 of the Rehabilitation Act, 29 U.S.C. 794; and 47 CFR 1.711 et seq., 6.15 et seq., 7.15 et seq., and 64.604.

PURPOSES:

The records in this system are used by Commission personnel to handle and process informal complaints received from individuals, groups, and other entities. Records in this system are available for public inspection after redaction of information that could identify the complainant or correspondent, such as the complainant's name, address, telephone number, fax number, and/or e-mail address.

ROUTINE USES OF RECORDS MAINTAINED IN THE SYSTEM, INCLUDING CATEGORIES OF USERS AND THE PURPOSES OF SUCH USES:

Information about individuals in this system of records may routinely be disclosed under the following conditions:

1. When a record in this system involves an informal complaint filed against telecommunications providers, broadcasters, multi-channel video program distributors, voice-over-Internet-protocol providers, and/or wireless providers, the complaint may be forwarded to the subject company for a response, pursuant to Sections 4(i), 208, and 303(r) of the Communications Act of 1934, as amended.

2. When an order or other Commission-issued document that includes consideration of informal complaints filed against telecommunications providers, broadcasters, multi-channel video program distributors, voice-over-Internet-protocol providers, and/or wireless providers is entered by the FCC to implement or enforce the Communications Act, pertinent rule, regulation, or order of the FCC, the complainant's name may be made public in that order or document. Where a complainant in filing his or her complaint explicitly requests that the bureau withhold his or her name from public disclosure, such a request will be granted and the complainant's name will not be disclosed in the Commission-issued order or document.

3. Where there is an indication of a violation or potential violation of a statute, regulation, rule, or order, records from this system may be referred to the appropriate Federal, State, Tribal, or local agency responsible for investigating or prosecuting a violation or for implementing or enforcing the statute, rule, regulation, or order.

4. A record on an individual in this system of records may be disclosed, where pertinent, in any legal proceeding to which the Commission is a party before a court or administrative body.

5. A record from this system of records may be disclosed to the Department of Justice or in a proceeding before a court or adjudicative body when:

(a) The United States, the Commission, a component of the Commission, or, when represented by the government, an employee of the Commission is a party to litigation or anticipated litigation or has an interest in such litigation, and

(b) The Commission determines that the disclosure is relevant or necessary to the litigation.

6. A record on an individual in this system of records may be disclosed to a Congressional office in response to an inquiry the individual has made to the Congressional office.

7. A record from this system of records may be disclosed to the Government Accountability Office (GAO) and the National Archives and Records Administration (NARA) for the purpose of records management inspections conducted under authority of 44 U.S.C. 2904 and 2906. Such disclosure shall not be used to make a determination about individuals.

8. A record from this system may be disclosed to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

The Consumer and Governmental Affairs Bureau staff logs consumer informal complaints and inquiries that it receives into its Complaint and Inquiry Management System (CIMS), Consolidated Complaint Management System (CCMS), and other electronic databases and network databases not specifically named here that are used to store consumer informal complaints and inquiries. Each informal submission is automatically assigned a file identification number for future reference when the case is entered into one of the databases. This identification number tracks consumer submissions and assists with identification of duplicate filings, which occur when consumers file multiple submissions. Confidential paper submissions are moved to a locked storage room for safekeeping. All records are kept in accordance with the agency records control schedule approved by NARA.

RETRIEVABILITY:

Information, e.g., records, files, and data, etc., in this system may be retrieved by the individual's personal identifiers, (i.e., name, street address, e-mail address, and phone number), entity name, program name, date received and date closed, problem description field, and/or call sign.

SAFEGUARDS:

Electronic records that emanate from these informal complaint and inquiry submissions are maintained in CIMS, CCMS or other electronic and network computer databases not specifically named here, which are secured through controlled access and passwords restricted to a limited number of FCC employees or contractors working on informal complaints and inquiries. In addition, as an added security measure, the staff in the Consumer and Governmental Affairs Bureau, Enforcement Bureau, and other FCC bureaus and offices who are assigned responsibility for resolution of these records in CIMS are only allowed access to these records via a “license” that also tracks their use of the records. Confidential paper submissions are moved to a locked storage room for safekeeping.

RETENTION AND DISPOSAL:

The information in this system is limited to electronic data, paper files, and audio files, e.g., telephone call records, etc. The information is retained at the FCC and then destroyed in accordance with the agency records control schedule N1-173-07-1, approved by NARA, which generally requires that source records are destroyed three years after data is entered into the system, and records in the masterfile are destroyed three years after the case is closed.

SYSTEM MANAGERS AND ADDRESS:

Address inquiries to the Office of Managing Director or the Consumer and Governmental Affairs Bureau, Federal Communications Commission, 445 12th Street, SW., Washington, DC 20554.

NOTIFICATION PROCEDURE:

Address inquiries to the Office of Managing Director or the Consumer and Governmental Affairs Bureau, Federal Communications Commission, 445 12th Street, SW., Washington, DC 20554.

RECORD ACCESS PROCEDURES:

Address inquiries to the Office of Managing Director or Consumer and Governmental Affairs Bureau, Federal Communications Commission, 445 12th Street, SW., Washington, DC 20554.

An individual requesting access must follow FCC Privacy Act regulations regarding verification of identity and amendment of records. See 47 CFR 0.554-0.557.

CONTESTING RECORD PROCEDURES:

Address inquiries to the Office of Managing Director or Consumer and Governmental Affairs Bureau, Federal Communications Commission, 445 12th Street, SW., Washington, DC 20554.

RECORD SOURCE CATEGORIES:

The sources for the information in this system include the complainants and subject entities.

EXEMPTIONS CLAIMED FOR THE SYSTEM:

None.

Marlene H. Dortch,
Secretary, Federal Communications Commission.

[FR Doc. E9-29815 Filed 12-14-09; 8:45 am]

BILLING CODE 6712-01-P